DEPARTMENT OF ENERGY

Federal Energy Regulatory Commission

Combined Notice of Filings #2

Take notice that the Commission received the following exempt wholesale generator filings:

Docket Numbers: EG18-106-000.

Applicants: Big Sky North, LLC.

Description: EWG self-certification for Big Sky North, LLC.

Filed Date: 7/10/18.

Accession Number: 20180710-5115.

Comments Due: 5 p.m. ET 7/31/18.

Take notice that the Commission received the following electric rate filings:

Docket Numbers: ER18-1987-000.

Applicants: Southwest Power Pool, Inc.

Description: § 205(d) Rate Filing: 3054R1 Upstream Wind Energy LLC GIA to be effective 6/12/2018.

Filed Date: 7/10/18.

Accession Number: 20180710-5054.

Comments Due: 5 p.m. ET 7/31/18.

Docket Numbers: ER18-1988-000.

Applicants: PacifiCorp.

Description: § 205(d) Rate Filing: Obsidian Renewables E&P Agmt to be effective 6/21/2018.

Filed Date: 7/10/18.

Accession Number: 20180710-5055.

Comments Due: 5 p.m. ET 7/31/18.

Docket Numbers: ER18-1989-000.

Applicants: Mid-Atlantic Interstate Transmission, LLC, PJM Interconnection, L.L.C.

Description: § 205(d) Rate Filing: MAIT submits two ECSAs, Service Agreement Nos. 4926 and 4927 to be effective 9/9/2018.

Filed Date: 7/10/18.

Accession Number: 20180710-5076.

Comments Due: 5 p.m. ET 7/31/18.

Docket Numbers: ER18-1990-000.

Applicants: Stonepeak Kestrel Energy Marketing LLC.

Description: Baseline eTariff Filing: Baseline new to be effective 7/11/2018.

Filed Date: 7/10/18.

Accession Number: 20180710-5085.

Comments Due: 5 p.m. ET 7/31/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 10, 2018.
Nathaniel J. Davis, Sr.,
Deputy Secretary.

[FR Doc. 2018-15118 Filed 7-13-18; 8:45 am]

BILLING CODE 6717-01-P